SURFACE TRANSPORTATION BOARD

[Docket No. FD 36679]

CaterParrott Railnet, LLC—Change of Operators Exemption—Ogeechee Railroad Company

CaterParrott Railnet, LLC (CPR), a Class III rail carrier, has filed a verified notice of exemption under 49 CFR 1150.41 to assume operation of approximately 22.4 miles of rail line owned by the State of Georgia Department of Transportation (GDOT) between milepost SA-36.4 at or near Ardmore, Ga., and milepost SA-58.8 at or near Sylvania, Ga. (the Line).¹

¹ CPR states that the notice of exemption filed in Ogeechee Railroad—Acquisition & Operation Exemption—Georgia Midland Railroad, Docket No. FD 35086, identifies the Line's endpoint as milepost SA-57.5, but, according to CPR, a recent review determined that the Line extends to milepost SA-58.8.

CPR states that Ogeechee Railroad Company (ORC) is the current lessee and operator of the Line. According to the verified notice, CPR, ORC, and GDOT have executed a novation agreement transferring ORC's rights under its lease agreement with GDOT to CPR.² CPR will operate the Line under an amended lease with GDOT.

² CPR states that it is also entering into an asset purchase agreement with ORC under which CPR is acquiring ORC's assets related to the operation of the Line, including the lease of the Line between ORC and GDOT.

CPR certifies that the agreement governing the proposed transaction does not impose or include an interchange commitment. CPR further certifies that its projected annual revenues will not exceed $5 million and will not result in CPR's becoming a Class I or Class II rail carrier. Under 49 CFR 1150.42(b), a change in operator requires that notice be given to shippers. CPR certifies that notice of the proposed transaction has been provided to shippers on the Line.

The earliest this transaction may be consummated is May 26, 2023 (30 days after the filing date of the verified notice of exemption).³

³ CPR's supplement, indicating that CPR's annual freight revenue will not exceed $5 million, was filed on April 26, 2023, which therefore is deemed the filing date of the verified notice.

If the verified notice contains false or misleading information, the exemption is void ab initio. Petitions to revoke the exemption under 49 U.S.C. 10502(d) may be filed at any time. The filing of a petition to revoke will not automatically stay the effectiveness of the exemption. Petitions for stay must be filed no later than May 19, 2023 (at least seven days before the exemption becomes effective).

All pleadings, referring to Docket No. FD 36679, must be filed with the Surface Transportation Board either via e-filing on the Board's website or in writing addressed to 395 E Street SW, Washington, DC 20423-0001. In addition, a copy of each pleading must be served on CPR's representative, Eric M. Hocky, Clark Hill PLC, Two Commerce Square, 2001 Market Street, Suite 2620, Philadelphia, PA 19103.

According to CPR, this action is categorically excluded from environmental review under 49 CFR 1105.6(c) and from historic preservation reporting requirements under 49 CFR 1105.8(b).

Board decisions and notices are available at www.stb.gov.

Decided: May 9, 2023.
By the Board, Mai T. Dinh, Director, Office of Proceedings.
Raina White,
Clearance Clerk.

[FR Doc. 2023-10179 Filed 5-11-23; 8:45 am]

BILLING CODE 4915-01-P